DEPARTMENT OF THE INTERIOR

National Park Service

Availability of the Final General Management Plan and Environmental Impact Statement (GMP/EIS) for Chattahoochee River National Recreation Area (CRNRA), GA

AGENCY: National Park Service, Department of the Interior.

ACTION: Notice.

SUMMARY: Pursuant to 42 U.S.C. 4332(2)(C) of the National Environmental Policy Act of 1969 the National Park Service (NPS) announces the availability of a Final GMP/EIS for the CRNRA, Georgia.

Consistent with NPS laws, regulations, and policies, and the purpose of the CRNRA, the Final GMP/EIS describes Alternative F at the NPS preferred alternative. The preferred alternative incorporates various management prescriptions to ensure protection, access and enjoyment of the park's resources.

The Final GMP/EIS describes the NPS preferred alternative and the potential environmental consequences of implementing the preferred alternative. Impact topics include the cultural, natural, and socioeconomic environments. The Final GMP/EIS contains NPS responses to public comments on the Supplemental Draft GMP/EIS, and copies of agency correspondence and substantive comment letters.

DATES: The NPS will execute a Record of Decision no sooner than 30 days following publication by the Environmental Protection Agency of its Notice of Availability of the Final GMP/EIS in the Federal Register.

ADDRESSES: The document will be available for public review and comment online at http://parkplanning.nps.gov. A limited number of Compact Disks (CD) and hard copies will be made available at CRNRA headquarters. You may also request a hard copy or CD by contacting the Superintendent, Daniel R. Brown, at CRNRA, 1978 Island Ford Parkway, Sandy Springs, Georgia 30350-3400; telephone 678-538-1200.

SUPPLEMENTARY INFORMATION: The Supplemental Draft GMP/EIS evaluated alternatives to guide the development and future management of the park over the next 20 years. Alternative A (No Action) provides a baseline evaluation of existing resource conditions, visitor use, facilities, and management at the park. Alternative A would continue the current management practices into the future. There would be only minor changes in resources management, visitor programs, or facilities. Alternative B would minimize development in the park and maximize the opportunity for visitors to experience solitude in natural settings that are relatively insulated from the surrounding urban conditions. Motorized boating would not be appropriate in several zones under Alternative B. Alternative C provides for a management system where visitors would be drawn toward a system of hubs in which administrative, commercial, and interpretive facilities are located, providing visitor information, restrooms, parking lot and roads, trail heads and river access. Motorized boating would not be appropriate in several zones under Alternative C. Alternative D would expand and distribute visitor access throughout the park, including newly acquired parcels, and would provide a wide variety of visitor experiences. Connectivity to existing neighborhoods would be optimized and expanded. Alternative E extracts some features from Alternatives C and D, such as providing for more expanded access. Substantial acreage with less hardened forms of access would be maintained, providing more opportunities for relative quiet and solitude, and motorized boating and fishing would be appropriate throughout the park. The preferred alternative, Alternative F, is similar to Alternative E providing for more expanded access, and allowing for motorized boating and fishing throughout the park, while also maintaining opportunities for relative quiet and solitude. The potential environmental consequences are addressed for each alternative, including impacts to natural resources, cultural resources, transportation, and visitor and community values.

The Supplemental Draft GMP/EIS was available for public and agency review from September 26, 2008, through December 1, 2008. Copies of the document were sent to individuals, agencies, organizations, and local libraries. The document was also made available for public review at the park and on the NPS Planning, Environment, and Public Comment Web site (http://parkplanning.nps.gov) in September 2008. Public meetings were held on October 27, 2008, and October 30, 2008. During the review period, the NPS accepted written and oral comments on the document. The NPS carefully reviewed all comments and prepared a report on responses to all substantive comments (Chapter 6). The Final GMP dated March 2009 sets forth a vision for the development and operation of CRNRA.

Authority: The authority for publishing this notice is 40 CFR 1506.6.

FOR FURTHER INFORMATION CONTACT: Contact Superintendent, Daniel R. Brown at CRNRA, 1978 Island Ford Parkway, Sandy Springs, Georgia 30350-3400; telephone 678-538-1200.

The responsible official for this Final EIS is the Regional Director, Southeast Region, National Park Service, 100 Alabama Street SW., 1924 Building, Atlanta, Georgia 30303.

Dated: March 25, 2010.
Gordon Wissinger,
Acting Regional Director, Southeast Region.

[FR Doc. 2010-7786 Filed 4-6-10; 8:45 am]

BILLING CODE 4310-70-P